DEPARTMENT OF HEALTH AND HUMAN SERVICES

National Institutes of Health

National Institute of Mental Health; Notice of Closed Meeting

Pursuant to section 1009 of the Federal Advisory Committee Act, as amended, notice is hereby given of a meeting of the National Advisory Mental Health Council.

The meeting will be closed to the public in accordance with the provisions set forth in sections 552b(c)(4) and 552b(c)(6), title 5 U.S.C., as amended. The intramural programs and projects as well as the grant applications and/or contract proposals and the discussions could disclose confidential trade secrets or commercial property such as patentable material, and personal information concerning individuals associated with the grant applications and/or contract proposals, the disclosure of which would constitute a clearly unwarranted invasion of personal privacy.

Name of Committee: National Advisory Mental Health Council.

Date: June 17, 2025.

Time: 10:00 a.m. to 10:45 a.m.

Agenda: To review and evaluate personnel qualifications and performance, and competence of individual investigators.

Meeting Format: Virtual Meeting.

Address: National Institute of Mental Health, National Institutes of Health, Neuroscience Center, 6001 Executive Boulevard, Rockville, MD 20852 Virtual Meeting.

Time: 11:00 a.m. to 11:15 a.m.

Agenda: To review and evaluate grant applications and/or proposals.

Meeting Format: Virtual Meeting.

Address: National Institute of Mental Health, National Institutes of Health, Neuroscience Center, 6001 Executive Boulevard, Rockville, MD 20852.

Contact Person: Tracy L. Waldeck, Ph.D., Director, Division of Extramural Activities, National Institute of Mental Health, NIH, DHHS, Neuroscience Center, 6001 Executive Boulevard, Bethesda, MD 20892, email: nimh.advisorycouncil@mail.nih.gov.

Information is also available on the Institute's/Center's home page: www.nimh.nih.gov/about/advisory-boards-and-groups/namhc, where an agenda and any additional information for the meeting will be posted when available.

(Catalogue of Federal Domestic Assistance Program No. 93.242, Mental Health Research Grants, National Institutes of Health, HHS)

Dated: April 1, 2025.
Bruce A. George,
Program Analyst, Office of Federal Advisory Committee Policy.

[FR Doc. 2025-05833 Filed 4-3-25; 8:45 am]

BILLING CODE 4140-01-P